DEPARTMENT OF COMMERCE

Foreign-Trade Zones Board

[Order No. 1775]

Voluntary Termination of Subzone Status; Chrysler Group, LLC, Newark, DE

Pursuant to its authority under the Foreign-Trade Zones Act of June 18, 1934, as amended (19 U.S.C. 81a-81u), the Foreign-Trade Zones Board (the Board) adopts the following Order:

Whereas, on July 3, 1984, the Board issued a grant of authority to the State of Delaware (grantee of FTZ 99) authorizing the establishment of Foreign-Trade Subzone 99B at the Chrysler Group, LLC, facility in Newark, Delaware (Board Order 258, 49 FR 28587, 7-13-1984);

Whereas, the State of Delaware has advised that the facility has been closed and zone procedures are no longer needed at the facility and requested voluntary termination of Subzone 99B (FTZ Docket 38-2011); and,

Whereas, the request has been reviewed by the FTZ Staff and U.S. Customs and Border Protection officials, and approval has been recommended;

Now therefore, the Foreign-Trade Zones Board terminates the subzone status of Subzone 99B, effective this date.

Signed at Washington, DC this 26th day of July 2011.
Ronald K. Lorentzen,
Deputy Assistant Secretary for Import Administration, Alternate Chairman, Foreign-Trade Zones Board.
Attest:
Andrew McGilvray,
Executive Secretary.

[FR Doc. 2011-19919 Filed 8-4-11; 8:45 am]

BILLING CODE 3510-DS-P